DEPARTMENT OF DEFENSE

Department of the Navy

Notice of Intent To Grant Exclusive Patent License; AmberWave Systems Corporation

AGENCY: Department of the Navy, DOD.

ACTION: Notice.

SUMMARY: The Department of the Navy hereby gives notice of its intent to grant to AmberWave Systems Corporation, a revocable, nonassignable, exclusive license to practice in the field of use of substrates for optoelectronic devices, radio frequency amplifiers and power transistors; and of optoelectronic devices in the United States, the Government-owned inventions described in U.S. Patent No. 6,323,108: Fabrication of Ultra-Thin Bonded Semiconductor Layers, Navy Case No. 78,980.//U.S. Patent No. 6,328,796: Single Crystal Material on Non-Single Crystalline Substrate, Navy Case No. 78,978.//U.S. Patent No. 6,497,763: Electronic Device with Composite Substrate, Navy Case No. 82,672.//U.S. Patent No. 6,593,212: Method for Making Electro-Optical Devices Using a Hydrogen Ion Splitting Technique, Navy Case No. 79,639.//U.S. Patent No. 7,358,152: Wafer Bonding of Thinned Electronic Materials and Circuits to High Performance Substrate, Navy Case No. 84,023.//U.S. Patent No. 7,535,100: Wafer Bonding of Thinned Electronic Materials and Circuits to High Performance Substrates, Navy Case No. 84,023 and any continuations, divisionals or re-issues thereof.

DATES: Anyone wishing to object to the grant of this license must file written objections along with supporting evidence, if any, not later than August 21, 2009.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone (202) 767-3083. Due to U.S. Postal delays, please fax (202) 404-7920, e-mail: rita.manak@nrl.navy.mil or use courier delivery to expedite response.

Authority: 35 U.S.C. 207, 37 CFR Part 404.

Dated: July 29, 2009.
A.M. Vallandingham,
Lieutenant Commander, Judge Advocate General's Corps, U.S. Navy, Federal Register Liaison Officer.

[FR Doc. E9-18773 Filed 8-5-09; 8:45 am]

BILLING CODE 3810-FF-P